DEPARTMENT OF LABOR

Bureau of Labor Statistics

Labor Research Advisory Council; Notice of Reestablishment

The Secretary of Labor has determined that reestablishment of the Labor Research Advisory Council to the Bureau of Labor Statistics (LRAC) is necessary and in the public interest in connection with the performance of duties imposed upon the Commissioner of Labor Statistics by 29 U.S.C. 1,2,3,4,5,6,7,8, and 9. The purpose of the Council is to advise the Commissioner of Labor Statistics with respect to technical issues arising out of the statistical work of the Bureau, and provide perspectives on Bureau programs in relation to the information needs of the American workforce, the organized labor community, and organizations or institutions with a demonstrated interest in accurate, timely, and relevant economic measures from the perspective of American workers.

The determination that the reestablishment is necessary and in the public interest follows consultation with the Committee Management Secretariat, General Services Administration.

The Council's charter will be filed under the Act fifteen days from the date of this publication.

Name of Committee: Labor Research Advisory Council.

Membership: The number of members will be reduced to 35 to enhance the working and management of the committee. The LRAC membership has also been broadened. Committee members, who will be nominated by the Commissioner of Labor Statistics and appointed by the Secretary of Labor, may be from organized labor, academia, research, and other organizations or institutions with a demonstrated interest in economic measures from the perspective of American workers.

Duration: Continuing.

Agency Contact: William Parks, 202-691-5900.

Signed at Washington, DC, this 22nd day of December, 2005.
Elaine L. Chao,
Secretary of Labor.

[FR Doc. E5-8016 Filed 12-28-05; 8:45 am]

BILLING CODE 4510-24-P